DEPARTMENT OF HEALTH AND HUMAN SERVICES

Health Resources and Services Administration

Meeting of the National Advisory Committee on Rural Health and Human Services

AGENCY: Health Resources and Services Administration (HRSA), Department of Health and Human Services.

ACTION: Notice.

SUMMARY: In accordance with the Federal Advisory Committee Act, this notice announces that the Secretary's National Advisory Committee on Rural Health and Human Services (NACRHHS) has scheduled a public meeting. Information about NACRHHS and the agenda for this meeting can be found on the NACRHHS website at https://www.hrsa.gov/advisory-committees/rural-health/index.html.

DATES:

• Monday, April 11, 2022, 12:00 p.m.-5:00 p.m. Eastern Time (ET);

• Tuesday, April 12, 2022, 12:00 p.m.-4:00 p.m. ET; and

• Wednesday, April 13, 2022, 12:00 p.m.-5:00 p.m. ET.

ADDRESSES: This meeting will be held virtually via Zoom webinar. While this meeting is open to the public, advance registration is required.

Please register online at https://us02web.zoom.us/meeting/register/tZIud-yqqDojHNMeqq9vMuklHBHhNftNoLAM by the deadline of 12:00 p.m. ET on April 8, 2022. Instructions on how to access the meeting via Zoom will be provided upon registration.

FOR FURTHER INFORMATION CONTACT: Steven Hirsch, Administrative Coordinator at the Federal Office of Rural Health Policy, HRSA, 5600 Fishers Lane, 17W59D, Rockville, Maryland 20857; 301-443-7322; or shirsch@hrsa.gov.

SUPPLEMENTARY INFORMATION: NACRHHS provides advice and recommendations to the Secretary of Health and Human Service on policy, program development, and other matters of significance concerning both rural health and rural human services.

During the April 11-13, 2022, meeting, NACRHHS will discuss two topics: Access to Emergency Medical Services in Rural America and Rural Human Services Programs and Issues. Agenda items are subject to change as priorities dictate. Refer to the NACRHHS website for any updated information concerning the meeting.

Members of the public will have the opportunity to provide comments. Public participants wishing to provide oral comments must submit a written version of their statement at least 3 business days in advance of the scheduled meeting. Oral comments will be honored in the order they are requested and may be limited as time permits. Public participants wishing to offer a written statement should send it to Steven Hirsch, using the contact information above, at least 3 business days prior to the meeting.

Individuals who plan to attend and need special assistance or another reasonable accommodation should notify Steven Hirsch at the address and phone number listed above at least 10 business days prior to the meeting.

Maria G. Button,
Director, Executive Secretariat.

[FR Doc. 2022-06084 Filed 3-22-22; 8:45 am]

BILLING CODE 4165-15-P